DEPARTMENT OF HEALTH AND HUMAN SERVICES

Office of the Secretary

[CMS-9160-N]

Request for Nominations of Members To Serve on the Healthcare Advisory Committee

AGENCY: Office of the Secretary, Department of Health and Human Services (HHS).

ACTION: Notice.

SUMMARY: The Department of Health and Human Services announces its intent to establish the Healthcare Advisory Committee and invites nominations for the Committee.

DATES: We will consider nominations that are submitted via email to HAC@cms.hhs.gov, by September 22, 2025. The subject line should state “Healthcare Advisory Committee Nomination.”

FOR FURTHER INFORMATION CONTACT: For questions related to submitting nominations, please email the Centers for Medicare and Medicaid Services at HAC@cms.hhs.gov.

SUPPLEMENTARY INFORMATION:

I. Background

The Healthcare Advisory Committee (hereinafter “the Committee”) is authorized under 42 U.S.C. 217a, section 222 of the Public Health Service Act, as amended. The Committee is governed by the Federal Advisory Committee Act (FACA) (Pub. L. 92-463), as amended (5 U.S.C. chapter 10).

The Committee will serve as an advisory body to the Secretary of the Department of Health and Human Services (HHS) and the Administrator of the Centers for Medicare & Medicaid Services (CMS) on programs and policies that can help improve the United States (US) healthcare system consistent with the Executive Order Establishing the President's Make America Healthy Again Commission.¹

¹ Trump, D.J. (2025, February 13). Establishing the President's Make America Healthy Again Commission (Exec. Order No. 14212). The White House. Available at: https://www.whitehouse.gov/presidential-actions/2025/02/establishing-the-presidents-make-america-healthy-again-commission/.

II. Advisory Committee

The Committee is tasked with advising the Secretary of HHS and the Administrator of CMS on the following issues as they relate to strategies for improving the operations and outcomes of federally administered healthcare insurance and payment programs:

• Developing a set of actionable policy initiatives that can promote chronic disease prevention and management, as consistent with the Make America Healthy Again policy agenda;

• Identifying opportunities to move towards a regulatory framework of accountability for safety and outcomes that reduce unnecessary red tape and allow providers to focus on improving patient health outcomes not filling out paperwork;

• Sharing actionable levers to advance a real-time data system, enabling a new standard of excellence in care, rapid claims processing, rapid quality measurement and rewards;

• Identifying structural opportunities to improve quality for the most vulnerable in the Medicaid program (outside of more funding for the current system); and

• Securing the sustainability of the Medicare Advantage program, specifically identifying opportunities to modernize risk adjustment and quality measures that assess and improve health outcomes.

III. Eligibility for Membership

The CMS Administrator shall appoint 15 individuals to serve on the Committee. The Committee shall consist of an appropriate selection of individuals that have practical and tactical experience or expertise working in all aspects of the US healthcare system, which may include experts from the medical field, manufacturing, government, academia, health insurance/payment programs, or health economics, with regard to issues related to chronic disease prevention and management, expanding access to primary care, reducing healthcare costs, ensuring payment accuracy, healthcare price transparency, and driving other improvements in the healthcare system for patients and providers.

The Committee shall be comprised of Representative Members and Special Government Employees (SGEs). All members shall serve on a voluntary basis, without compensation. Members of the Committee shall be entitled to receive reimbursement for travel expenses and per diem in lieu of subsistence expenses, in accordance with standard Federal Travel Regulations. Members shall serve a term of 2 years until the date on which the Committee's charter terminates.

IV. Nomination Process

HHS invites nominations for Committee membership in the following areas: provider community, health insurers, academia, manufacturers, advocacy and other non-profit organizations with demonstrated expertise in the US healthcare system. Both self-nominations and third-party nominations will be considered.

To be considered for appointment, nomination packages must be complete and submitted by the deadline.

V. Nominee Application Components

1. Cover Letter

a. Complete contact information for nominee, including their executive assistant or scheduler

b. Contact information the third-party nominator (if applicable)

2. Nominee Information

a. Nominee Qualifications Summary

(i) Brief overview of relevant experience and expertise

(ii) Educational background and professional credentials

(iii) Specific knowledge areas related to the Committee's scope

b. Interest and Motivation

(i) Explanation of why the nominee wants to serve on the Committee

(ii) How their participation would benefit the Committee's objective to Make America Healthy Again

c. Representative Member Declaration (if applicable, required to include with submission for nomination to be considered)

(i) Clear identification of the organization, constituency, or stakeholder group

(ii) Explanation of why the nominee has authority to speak on behalf of the represented group

d. Availability and Commitment Statement

(i) Confirmation of ability to attend meetings and fulfill time commitments

(ii) Acknowledgment of expected service duration

(iii) Any potential scheduling constraints or conflicts

e. Nominee Eligibility Confirmation

(i) Statement affirming nominee meets all Committee eligibility criteria, specifically addressing that the nominee:

(1) Is a U.S. citizen; and

(2) Is not required to register as a foreign agent under the Foreign Agents Registration Act of 1938, as amended.

3. Supporting Documentation

a. Biography

(i) Professional and academic credentials

b. Resume or Curriculum Vitae

(i) Educational experience, as well as relevant professional experience

(ii) Publications or work samples that demonstrate expertise

(1) Do not include brochures or any other promotional information.

(iii) Previous experience on a Federal Advisory Committee (if applicable)

c. Two Letters of Reference

(i) Support the nominee's qualifications for participation on the Committee (For nominations other than self-nominations, a third-party nomination letter that includes information supporting the nominee's qualifications may be counted as one of the letters of reference)

Materials submitted should total 10 pages or less. Should more information be needed, Department staff will contact the applicant/nominee, obtain information from the applicant's/nominee's past affiliations, or obtain information from publicly available sources.

HHS will prioritize appointing Committee members who possess practical and tactical experience or expertise necessary to address the Make America Healthy Again objectives and advocate for key stakeholder interests. Representative Members will be appointed based on their ability to provide the point of view of an organization, group, or industry with an interest in the matters before the Committee. Representative Member selection criteria includes but is not limited to: years of experience effectively representing stakeholder groups, industries, or constituencies; demonstrated advocacy success; strong communication and analytical skills; established credibility within their representative sector; and ability to balance constituent interests with committee objectives. Nominees being considered for an SGE position will be subject to a conflict-of-interest review in accordance with government ethics law and regulation prior to their appointment and will be chosen for their ability and to provide independent expert advice to the Agency. SGEs will be appointed based on the individual's ability to provide independent advice to the Agency. SGE selection criteria includes but is not limited to: years of experience as a technical advisor in the candidate's specialized field; track record of publishing research findings while working in academia; and ability to balance independent expertise with collaborative committee participation.

To the extent permitted by FACA and other laws, the Committee membership shall also be consistent with achieving the greatest impact, scope, and credibility among diverse stakeholders. In making such appointments, HHS shall ensure a fair balance among viewpoints from all relevant stakeholders, broad geographic representation—including both urban and rural perspectives—and diversity across demographic characteristics, including race, ethnicity, sex, disability status, and socioeconomic background. HHS will also seek representation from stakeholders across relevant sectors, including patients, providers, payers, academia, community-based organizations, and regional, State and local government. HHS reserves the discretion to appoint Committee members from outside the pool of respondents to this notice if such appointments are necessary to fulfill specific expertise requirements in a manner to ensure an appropriate balance of membership.

Robert F. Kennedy, Jr.,
Secretary, Department of Health and Human Services.

[FR Doc. 2025-16136 Filed 8-21-25; 11:15 am]

BILLING CODE 4120-01-P